DEPARTMENT OF HEALTH AND HUMAN SERVICES

National Institutes of Health

Prospective Grant of Exclusive License: The Use of Geldanamycin and Its Derivatives for the Treatment of Cancer

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license to practice the invention embodied in: PCT Application PCT/US99/30631 (DHHS ref. No. E-151-98/1), “Water-Insoluble Drug Delivery Systems;” PCT/US99/16199 (DHHS ref. No. E-190-98/1), “Water Soluble Drugs and Methods for their Production;” US Patent Applications 60/246,258 (Provisional I, DHHS ref. No. E-289-00/0) 60/279,020 (Provisional II, DHHS ref. No. E-004-01/0), and 60/280,016 (Provisional III, DHHS ref. No. E-004-01/1) combined and converted into a PCT application PCT/US01/44172, filed on 11/6/01, “Geldanamycin Derivatives Having Selective Affinity for HSP-90 and Methods for Using Same;” and US Patent Application 60/280,078 (DHHS ref. No. E-050-00/1), “Geldanamycin Derivatives and Method of Treating Cancer Using Same”, to Kosan Biosciences, Inc., having a place of business in Hayward, CA. The aforementioned patent rights have been assigned to the United States of America.

DATES: Only written comments and/or application for a license which are received by the NIH Office of Technology Transfer on or before May 3, 2002, will be considered.

ADDRESSES: Requests for a copy of the patent application, inquiries, comments and other materials relating to the contemplated license should be directed to: Wendy R. Sanhai, Ph.D., Office of Technology Transfer, National Institutes of Health, 6011 Executive Boulevard, Suite 325, Rockville, MD 20852-3804; e-mail: sanhaiw@od.nih.gov; Telephone: (301) 496-7056, ext. 244; Facsimile: (301) 402-0220.

SUPPLEMENTARY INFORMATION: These inventions describe and claim methods for the treatment of cancers. These methods utilize a class of compounds (Geldanamycin and derivatives thereof) as important inhibitors of HSP-90 and the HGF-SF-Met signaling pathway. Geldanamycin and its derivatives have been shown to inhibit HSP-90 chaperone function and down regulate of the expression of the Met receptor. Through these pathways these compounds have been implicated in the etiology of human cancers and the formation of secondary metastases.

The field of use may be limited to pharmaceutical use as anti-cancer agents in humans and animals.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: February 25, 2002.
Jack Spiegel,
Director, Division of Technology Development and Transfer, Office of Technology Transfer.

[FR Doc. 02-5028 Filed 3-1-02; 8:45 am]

BILLING CODE 4140-01-P